DEPARTMENT OF TRANSPORTATION

Federal Transit Administration

Environmental Impact Statement for the Spokane Regional Light Rail (South Valley Corridor) Project in Spokane, Washington Metropolitan Area

AGENCY: Federal Transit Administration, DOT.

ACTION: Notice of intent to prepare an environmental impact statement.

SUMMARY: The Federal Transit Administration (FTA), Spokane Transit Authority (STA), and the Spokane Regional Transportation Council (SRTC) intend to prepare an Environmental Impact Statement (EIS) in accordance with the National Environmental Policy Act (NEPA) for transit improvements in Spokane County, between downtown Spokane and Liberty Lake. The EIS will be prepared to satisfy both NEPA and the Washington State Environmental Policy Act (SEPA). This project was originally scoped as an Environmental Assessment (EA), with one build Alternative. Recently, conditions have changed with an additional build alternative being considered. Therefore, it has been determined that an Environmental Impact Statement (EIS) is more suitable for the project.

The purpose of this Notice of Intent is to notify interested parties of the intent to prepare an EIS, the addition of a second build alternative for consideration and to invite participation in the study. The project proposes to implement a major high capacity rail transit improvement in the Spokane Metropolitan area that maintains livability, manages growth and provides a balanced transportation system. The Proposed Action is intended to contribute to implementation of a series of state, regional, and local planning policies that address air quality, sprawl, and growth. Three alternatives (described below) will be evaluated in the EIS.

DATES: The public is welcome to make comments on the scope of the proposed project. Written comments should be sent to the Spokane Transit Authority within 30 days from the date of publication of this notice in the local newspaper or June 18, 2002, whichever is later. A packet on the proposed project, project alternatives and the scoping process may be obtained from the Spokane Transit Authority. The information may also be obtained through a public website for the project, www.spokanelightrail.com. A Public Open House/Scoping Meeting will be held on Tuesday June 4, 2002 at 7:00 p.m. PDT, at the Spokane County Valley Library, 12004 East Main Avenue, Spokane, WA 99206. An Agency Scoping Meeting will be held at 2:30 p.m. PDT on Tuesday, June 4, 2002, at the Spokane Transit Authority (STA) Board Room, 1230 West Boone Avenue, Spokane, WA 99201. Both meeting locations are accessible to persons with disabilities. Any individual with a disability who requires special assistance, such as a sign language interpreter, should contact Geralyn Garberg at (509) 325-6000, ext. 196 or email ggarberg@spokanetransit.com, at least 48-hours in advance of the meeting in order for STA to make necessary arrangements.

FOR FURTHER INFORMATION CONTACT: The Spokane Transit Authority Agency Coordination contact is Greg Northcutt, Project Director at (509) 325-6056 or e-mail gnorthcutt@spokanetransit.com. The STA Public Information contact is Molly Myers, Public Involvement Manager at (509) 325-6090 or e-mail mmyers@spokanetransit.com. The STA TDD number is (509) 456-4327. Written comments should be sent to Greg Northcutt, Project Director, Spokane Transit Authority, 1230 West Boone Ave., Spokane, WA 99201.

The Federal agency contact is F. William Fort, Federal Transit Administration, 915 Second Avenue, Suite 3142 Jackson Federal Building, 915 Second Avenue, and Seattle, WA 98174. Phone (206) 220-4461.

SUPPLEMENTARY INFORMATION:

1. Notice of Intent

This Notice of Intent to prepare an EIS is being published to notify interested parties. The Spokane South Valley Corridor Project is examining two high capacity rail transit build alternatives and a no-build alternative in the south valley portion of the Spokane metropolitan area. Because the study is a transit alternatives study, FTA regulations and guidance will be used for the analysis and preparation of the South Valley Corridor Project EIS.

2. Study Area

The South Valley Corridor includes an area roughly parallel to I-90 running east through downtown Spokane, southeast Spokane, unincorporated urban Spokane County, and into the City of Liberty Lake. The proposed alternatives primarily utilize existing right-of-ways along operational and former railroad corridors and roadways.

3. Alternatives

Three alternatives will be evaluated in the EIS. The No-Build Alternative will provide the basis for comparison of the build alternatives. The No-Build Alternative includes the existing transportation system plus projects listed in the Spokane Metropolitan Area Transportation Improvement Program (TIP). The Separate Rail Alignment Alternative includes a light rail transit line running from downtown Spokane to Liberty Lake on an exclusive alignment. The new Shared Rail Alignment includes a light rail line from downtown Spokane to Liberty Lake sharing existing rail lines with the Union Pacific Railroad along portions of the alignment. This alternative would use operating time restrictions to separate light rail traffic from heavy rail traffic. Between the two termini there would be intermediate stations and associated local parking. Both the separate rail alignment and shared rail alignment Build Alternatives may use either electrified or diesel multiple unit (DMU) vehicle technology. These alternatives will also incorporate in-street operations along Riverside Avenue, between Post Street and Division Street. The rail options will utilize the former Milwaukee Road rail corridor, east of University Road.

4. Probable Effects

FTA and Spokane Transit Authority will evaluate the environmental, social and economic impacts of the alternatives and measures to mitigate any adverse impacts.

Dated: May 9, 2002.
Blas M. Uribe,
Acting Regional Administrator, FTA Region 10.

[FR Doc. 02-12122 Filed 5-14-02; 8:45 am]

BILLING CODE 4910-57-P